DEPARTMENT OF DEFENSE

Department of the Army

Privacy Act of 1974; System of Records

AGENCY: Department of the Army, DoD.

ACTION: Notice to Amend Systems of Records.

SUMMARY: The Department of the Army is amending a system of records notice in its existing inventory of record systems subject to the Privacy Act of 1974, (5 U.S.C. 552a), as amended.

DATES: This proposed action will be effective without further notice on July 23, 2001 unless comments are received which result in a contrary determination.

ADDRESSES: Records Management Division, U.S. Army Records Management and Declassification Agency, ATTN: TAPC-PDD-RP, Stop 5603, 6000 6th Street, Ft. Belvoir, VA 22060-5603.

FOR FURTHER INFORMATION CONTACT: Ms. Janice Thornton at (703) 806-4390 or DSN 656-4390 or Ms. Christie King at (703) 806-3711 or DSN 656-3711.

SUPPLEMENTARY INFORMATION: The Department of the Army systems of records notices subject to the Privacy Act of 1974, (5 U.S.C. 552a), as amended, have been published in the Federal Register and are available from the address above.

The specific changes to the records system being amended are set forth below followed by the notice, as amended, published in its entirety. The proposed amendments are not within the purview of subsection (r) of the Privacy Act of 1974, (5 U.S.C. 552a), as amended, which requires the submission of a new or altered system report.

Dated: June 15, 2001.
L.M. Bynum,
Alternate OSD Federal Register Liaison Officer, Department of Defense.

A0215-2a CFSC

System name:

Army Club Membership Files (February 22, 1993, 58 FR 10002).

Changes:

* * * * *

Authority for maintenance of the system: Delete entry and replace with ‘10 U.S.C. 3013, Secretary of the Army; Army Regulation 215-1, Morale Welfare and Recreation Activities and Non-appropriated Fund Instrumentalities; and E.O. 9397 (SSN).’

* * * * *

Storage:

Delete entry and replace with ‘Cards, magnetic tape/disc and printouts and electronic storage media.’

Safeguards:

Delete entry and replace with ‘Information is maintained in secured areas, accessible only to designated person having official need thereof in the performance of their duties.’

Retention and disposal:

Delete entry and replace with ‘Army club/non-appropriated fund activity membership files are maintained for 1 year after termination of membership or payment of final bill, whichever applies, then destroyed.’

* * * * *

Record source categories:

Delete entry and replace with ‘From the individual and morale, welfare and recreation records.’

* * * * *

A0215-2a CFSC

System name:

Army Club Membership Files.

System location:

Decentralized at Army installation; files are maintained by the officers, noncommissioned, or other military club managers at Army installations having club activities. Official mailing addresses are published as an appendix to the Army's compilation of systems of records notices.

Categories of individuals covered by the system: Military (Active Reserve, retired), personnel, their dependents, and/or civilian employees who apply for membership in any Army club.

Categories of records in the system:

Individual's name, Social Security Number, address, phone number, name of spouse, credits, merchandise code, date of purchase, card number, club bill, and similar related information.

Authority for maintenance of the system:

10 U.S.C. 3013, Secretary of the Army; Army Regulation 215-1, Morale Welfare and Recreation Activities and Non-appropriated Fund Instrumentalities; and E.O. 9397(SSN).

Purpose(s):

To administer club accounts, prepare billings, collect monies, and disseminate information concerning club activities.

Routine uses of records maintained in the system, including categories of users and the purposes of such uses:

In addition to those disclosures generally permitted under 5 U.S.C. 552a(b) of the privacy Act, these records or information contained therein may specifically be disclosed outside the DoD as a routine use pursuant to 5 U.S.C. 552a(b)(3) as follows:

The DoD ‘Blanket Routine Uses’ set forth at the beginning of the Army's compilation of systems of records notices also apply to this system.

Policies and practices for storing, retrieving, accessing, retaining, and disposing of records in the system:

Storage:

Cards, magnetic tape/disc and printouts and electronic storage media.

Retrievability:

By member's name, Social Security Number, or club membership number.

Safeguards:

Information is maintained in secured areas, accessible only to designated person having official need thereof in the performance of their duties.

Retention and disposal:

Army club/non-appropriated fund activity membership files are maintained for 1 year after termination of membership or payment of final bill, whichever applies, then destroyed.

System manager(s) and address:

Commander, U.S. Army Community and Family Support Center, 4700 King Street, Alexandria, VA 22331-0500.

Notification procedure:

Individuals seeking to determine whether information about themselves is contained in this system should address written inquiries to the morale, welfare and recreation program at the installation were membership occurred.

Individual should provide the full name, Social Security Number, present address, and signature.

Record access procedures:

Individuals seeking access to information about themselves contained in this system should address written inquiries to the morale, welfare and recreation program at the installation were membership occurred.

Individual should provide the full name, Social Security Number, present address, and signature.

Contesting record procedures:

The Army's rules for accessing records, and for contesting contents and appealing initial agency determinations are contained in Army Regulation 340-21; 32 CFR part 505; or may be obtained from the system manager.

Record source categories:

From the individual and morale, welfare and recreation records.

Emexptions claimed for the system:

None.

[FR Doc. 01-15592 Filed 6-20-01; 8:45 am]

BILLING CODE 5001-08-M